DEPARTMENT OF HOMELAND SECURITY

Federal Emergency Management Agency

[Docket ID FEMA-2012-0003; Internal Agency Docket No. FEMA-B-1285]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Coffee | City of Enterprise (12-04-4332P) | The Honorable Kenneth Boswell, Mayor, City of Enterprise, 501 South Main Street, Enterprise, AL 36331 | City Hall, 501 South Main Street, Enterprise, AL 36331 | http://www.bakeraecom.com/index.php/alabama/coffee/ | February 7, 2013 | 010045
Arizona:
Pinal | City of Eloy (12-09-1641P) | The Honorable Joseph Nagy, Mayor, City of Eloy, City Hall, 628 North Main Street, Eloy, AZ 85131 | City Hall, 628 North Main Street, Eloy, AZ 85131 | http://www.r9map.org/Docs/12-09-1641P-040083-102IAC.pdf | February 25, 2013 | 040083
Pinal | Unincorporated areas of Pinal County (12-09-1641P) | The Honorable David Snider, Chairman, Pinal County Board of Supervisors, P.O. Box 827, Florence, AZ 85132 | Pinal County Engineering Department, 31 North Pinal Street, Building F, Florence, AZ 85232 | http://www.r9map.org/Docs/12-09-1641P-040077-102DA.pdf | February 25, 2013 | 040077
Yavapai | Unincorporated areas of Yavapai County (12-09-2033P) | The Honorable Thomas Thurman, Chairman, Yavapai County Board of Supervisors, 1015 Fair Street, Prescott, AZ 86305 | Yavapai County Flood Control District, 500 South Marina Street, Prescott, AZ 86303 | http://www.r9map.org/Docs/12-09-2033P-040093-102IAC.pdf | February 11, 2013 | 040093
California:
Los Angeles | City of Los Angeles (12-09-2655P) | The Honorable Antonio R. Villaraigosa, Mayor, City of Los Angeles, 200 North Spring Street, Los Angeles, CA 90012 | Bureau of Engineering, 1149 South Broadway, Los Angeles, CA 90015 | http://www.r9map.org/Docs/12-09-2655P-060137-102DA.pdf | February 25, 2013 | 060137
Orange | City of Dana Point (12-09-1603P) | The Honorable Lara Anderson, Mayor, City of Dana Point, 33282 Golden Lantern, Dana Point, CA 92629 | City Hall, 33282 Golden Lantern, Dana Point, CA 92629 | http://www.r9map.org/Docs/12-09-1603P-060736-102DA.pdf | February 11, 2013 | 060736
Orange | City of San Juan Capistrano (12-09-1603P) | The Honorable Larry Kramer, Mayor, City of San Juan Capistrano, 32400 Paseo Adelanto, San Juan Capistrano, CA 92675 | City Hall, 32400 Paseo Adelanto, San Juan Capistrano, CA 92675 | http://www.r9map.org/Docs/12-09-1603P-060231-102DA.pdf | February 11, 2013 | 060231
Santa Clara | City of Santa Clara (12-09-2856P) | The Honorable Jamie L. Matthews, Mayor, City of Santa Clara, 1500 Warburton Avenue, Santa Clara, CA 95050 | Planning and Inspection Department, 1500 Warburton Avenue, Santa Clara, CA 95050 | http://www.r9map.org/Docs/12-09-2856P-060350-102DA.pdf | February 14, 2013 | 060350
Colorado: Douglas | Unincorporated areas of Douglas County (12-08-0727P) | The Honorable Jack Hilbert, Chair, Douglas County Board of Commissioners, 100 3rd Street, Castle Rock, CO 80104 | Douglas County Department of Public Works, Engineering Division, 100 3rd Street, Castle Rock, CO 80104 | http://www.bakeraecom.com/index.php/colorado/douglas-2/ | January 11, 2013 | 080049
North Carolina:
Cabarrus | City of Kannapolis (11-04-6249P) | The Honorable Robert S. Misenheimer, Mayor, City of Kannapolis, 246 Oak Avenue, Kannapolis, NC 28081 | City Hall, 246 Oak Avenue, Kannapolis, NC 28081 | http://www.ncfloodmaps.com/fhd.htm | January 31, 2013 | 370469
Rowan | Town of East Spencer (11-04-3050P) | The Honorable Barbara Mallett, Mayor, Town of East Spencer, 105 South Long Street, East Spencer, NC 28039 | Town Hall, 105 South Long Street, East Spencer, NC 28039 | http://www.ncfloodmaps.com/fhd.htm | January 2, 2013 | 370211
Rowan | Unincorporated areas of Rowan County (11-04-3050P) | The Honorable Gary L. Page, Rowan County Manager, 130 West Innes Street, Salisbury, NC 28144 | Rowan County Planning Department, 402 North Main Street, Salisbury, NC 28144 | http://www.ncfloodmaps.com/fhd.htm | January 2, 2013 | 370351
South Carolina: Richland | City of Columbia (12-04-1814P) | The Honorable Steve Benjamin, Mayor, City of Columbia, P.O. Box 147, Columbia, SC 29201 | Department of Utilities and Engineering, 1136 Washington Street, Columbia, SC 29217 | http://www.bakeraecom.com/index.php/southcarolina/richland/ | February 11, 2013 | 450172
South Dakota: Pennington | City of Box Elder (12-08-0544P) | The Honorable William F. Griffths, Sr., Mayor, City of Box Elder, 420 Villa Drive, Box Elder, SD 57719 | City Hall, 420 Villa Drive, Box Elder, SD 57719 | http://www.bakeraecom.com/index.php/south-dakota/pennington/ | February 14, 2013 | 460089

(Catalog of Federal Domestic Assistance No. 97.022, “Flood Insurance.”)

James A. Walke,
Acting Deputy Associate Administrator for Mitigation, Department of Homeland Security, Federal Emergency Management Agency.

[FR Doc. 2012-31345 Filed 12-28-12; 8:45 am]

BILLING CODE 9110-12-P